DEPARTMENT OF TRANSPORTATION

Federal Aviation Administration

14 CFR Part 39

[Docket No. FAA-2025-0909; Project Identifier MCAI-2023-00895-R]

RIN 2120-AA64

Airworthiness Directives; Airbus Helicopters

AGENCY: Federal Aviation Administration (FAA), DOT.

ACTION: Notice of proposed rulemaking (NPRM).

SUMMARY: The FAA proposes to supersede Airworthiness Directive (AD) 2019-19-13, which applies to certain Airbus Helicopters Model EC225LP helicopters. AD 2019-19-13 requires determining the total hours time-in-service (TIS) of the free wheel shafts of certain main rotor gearboxes (MGBs), replacing the MGB or right-hand side (RH) free wheel shaft, installing placard(s), and revising the Rotorcraft Flight Manual (RFM) for the helicopter. Since the FAA issued AD 2019-19-13, an additional part-numbered MGB has been identified to have the same unsafe condition and the FAA determined that additional changes are necessary. This proposed AD would require the actions of AD 2019-19-13 and, expand the applicability by adding the additional part-numbered MGB, change the requirement to determine the total hours TIS of a certain free wheel shaft, require repetitive replacement of the MGB or the RH free wheel shaft, change the requirements for who can replace parts, and expand the parts installation limitation conditions. The FAA is proposing this AD to address the unsafe condition on these products.

DATES: The FAA must receive comments on this NPRM by July 7, 2025.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-0909; or in person at Docket Operations between 9 a.m. and 5 p.m., Monday through Friday, except Federal holidays. The AD docket contains this NPRM, the mandatory continuing airworthiness information (MCAI) any comments received, and other information. The street address for Docket Operations is listed above.

Other Related Material: For the Airbus Helicopters material identified in this proposed AD, contact Airbus Helicopters, 2701 North Forum Drive, Grand Prairie, TX 75052; phone: (972) 641-0000 or (800) 232-0323; fax: (972) 641-3775; website: airbus.com/en/products-services/helicopters/hcare-services/airbusworld.

FOR FURTHER INFORMATION CONTACT: Frank Huynh, Aviation Safety Engineer, FAA, 1600 Stewart Avenue, Suite 410, Westbury, NY 11590; phone: (404) 983-2588; email: frank.huynh@faa.gov.

SUPPLEMENTARY INFORMATION:

Comments Invited

The FAA invites you to send any written relevant data, views, or arguments about this proposal. Send your comments to an address listed under the ADDRESSES section. Include “Docket No. FAA-2025-0909; Project Identifier MCAI-2023-00895-R” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Frank Huynh, Aviation Safety Engineer, FAA, 1600 Stewart Avenue, Suite 410, Westbury, NY 11590. Any commentary that the FAA receives which is not specifically designated as CBI will be placed in the public docket for this rulemaking.

Background

The FAA issued AD 2019-19-13, Amendment 39-19749 (84 FR 56109, October 21, 2019) (AD 2019-19-13), for Airbus Helicopters Model EC225LP helicopters, with a MGB part number (P/N) 332A325001.XX, 332A325002.XX, or 332A325003.XX, with a main reduction gear module (main module), and with a certain modification installed. AD 2019-19-13 was prompted by European Union Aviation Safety Agency (EASA) AD No. 2019-0152-E, dated June 28, 2019 (EASA AD 2019-0152-E), issued by EASA, which is the Technical Agent for the Member States of the European Union, to correct an unsafe condition for Airbus Helicopters Model EC 225 LP helicopters.

AD 2019-19-13 requires determining the total hours TIS of each free wheel shaft and depending on the calculation, replacing the MGB with an airworthy MGB or replacing the RH free wheel shaft. AD 2019-19-13 also requires installing placard(s) in full view of both pilots and revising the RFM for the helicopter with one engine inoperative (OEI) OEI training procedures pertaining to the “TRAINING IDLE” switches. As an option, AD 2019-19-13 specifies installing alternate MGB configurations that would constitute terminating action for the requirements of AD 2019-19-13.

The FAA issued AD 2019-19-13 to detect and prevent wear of the ramps of the RH side free wheel shaft.

Actions Since AD 2019-19-13 Was Issued

Since the FAA issued AD 2019-19-13, EASA issued EASA AD 2023-0148, dated July 19, 2023 (EASA AD 2023-0148) (also referred to as the MCAI), to supersede EASA AD 2019-0152-E. The MCAI states that since EASA AD 2019-0152-E was issued, it was determined that an additional part-numbered MGB is potentially affected by the same unsafe condition and expanded the affected parts by adding MGB P/N 332A32-5004-00 with main module P/N 332A32-5400-00 installed.

Additionally, the FAA has determined that repetitive replacement of the MGB is necessary and is requiring repetitive replacement of the MGB or the RH free wheel shaft at the 1,000 total hours TIS threshold. The FAA is also updating the actions that require replacing certain parts under the supervision of a qualified Airbus Helicopter Specialist by removing the requirement for the specified specialist since the actions must be accomplished by persons authorized under 14 CFR 43.3. The FAA has also changed the information that specifies availability of an example of the placard required by this proposed AD. Further, the FAA expanded the parts installation limitation conditions. Lastly, this NPRM uses an updated format; as a result, paragraph identifiers have changed. Finally, the FAA removed the requirement to determine the total hours TIS of the left-hand (LH) free wheel shaft.

You may examine the MCAI in the AD docket at regulations.gov under Docket No. FAA-2025-0909.

Comments to AD 2019-19-13

After AD 2019-19-13 was published, the FAA received a comment from one commenter. The following presents the comments received on the NPRM and the FAA's response to the comment.

The commenter stated the FAA AD is not in line with the intention of the Airbus Helicopters Alert Service Bulletin or the EASA AD. Specifically, the commenter stated the restriction that required the use of the RH free wheel shaft total hours TIS if the LH and RH free wheel shaft hours are different is not listed by Airbus or applied by EASA. Furthermore, the commenter stated, there are cases where the LH free wheel shaft has higher hours TIS than the RH free wheel shaft and the helicopter is “still flying as long as the RH Free wheel is under 1000 TSI”.

The FAA infers the commenter is requesting that the FAA remove all required actions involving the LH free wheel shaft from the NPRM. The FAA agrees and has removed all wording involving the LH free wheel shaft from this NPRM.

Related Material

The FAA reviewed Airbus Helicopters Emergency Alert Service Bulletin No. EC225-04A016, Revision 4, dated June 19, 2023, which specifies procedures for determining the total hours TIS of the free wheel shafts, a life limit schedule, and procedures for replacing the MGB or RH free wheel shaft, and installing one or two labels (placards) in view of both pilots about OEI training procedures.

FAA's Determination

These products have been approved by the aviation authority of another country and are approved for operation in the United States. Pursuant to the FAA's bilateral agreement with this State of Design Authority, it has notified the FAA of the unsafe condition described in the MCAI referenced above. Except for minor editorial changes and any other changes described previously, the FAA is issuing this NPRM after determining that the unsafe condition described previously is likely to exist or develop on other products of the same type design.

Proposed AD Requirements in This NPRM

This proposed AD would retain none of the requirements of AD 2019-19-13, would require some of the actions required by AD 2019-19-03, and would require the actions discussed under “Actions Since AD 2019-19-13 was Issued.”

This proposed AD would also require revising the existing RFM for the helicopter. Revising the existing RFM for the helicopter may be performed by the owner/operator (pilot) holding at least a private pilot certificate and must be entered into the aircraft records showing compliance with this action in accordance with 14 CFR 43.9(a) and 91.417(a)(2)(v). The pilot may perform this action because it only involves revising the existing RFM by inserting pages, which is not considered a maintenance action.

Differences Between This Proposed AD and the MCAI

This proposed AD would require revising the existing RFM for the helicopter, whereas the MCAI does not. The MCAI requires reporting information, whereas this proposed AD would not.

Interim Action

The FAA considers that this proposed AD would be an interim action. If final action is later identified, the FAA might consider further rulemaking.

Costs of Compliance

The FAA estimates that this AD, if adopted as proposed, would affect 28 helicopters of U.S. registry. The FAA estimates the following costs to comply with this proposed AD. Labor costs are estimated at $85 per hour.

Determining the total hours TIS of each free wheel shaft would take 0.25 work-hour, for an estimated cost of $21 per helicopter and $588 for the U.S. fleet.

Installing placard(s) and revising the existing RFM for the helicopter would take 0.5 work-hour for an estimated cost of $43 per helicopter and $1,204 for the U.S. fleet.

Replacing an MGB would take 40 work-hours and parts would cost $850,000 (overhauled), for an estimated cost of $853,400 per helicopter, per replacement cycle.

Alternatively, replacing the RH free wheel shaft would take 4 work-hours and parts would cost $24,021, for an estimated cost of $24,361 per helicopter, per replacement cycle.

Authority for This Rulemaking

Title 49 of the United States Code specifies the FAA's authority to issue rules on aviation safety. Subtitle I, section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2019-19-13, Amendment 39-19749 (84 FR 56109, October 21, 2019); and

b. Adding the following new airworthiness directive:

Airbus Helicopters: Docket No. FAA-2025-0909; Project Identifier MCAI-2023-00895-R.

(a) Comments Due Date

The FAA must receive comments on this airworthiness directive (AD) by July 7, 2025.

(b) Affected ADs

This AD replaces AD 2019-19-13, Amendment 39-19749 (84 FR 56109, October 21, 2019) (AD 2019-19-13).

(c) Applicability

This AD applies to Airbus Helicopters Model EC225LP helicopters, certificated in any category, with the parts identified in paragraphs (c)(1) or (2) of this AD installed, with “XX” denoting any dash number.

(1) With a main rotor gearbox (MGB) part number (P/N) 332A32-5001-XX, 332A32-5002-XX, or 332A32-5003-XX, with a main reduction gear module (main module), with modification (MOD) 07-53016 (16-roller free wheel of free wheel shaft P/N 332A322191.20) installed, P/N 332A32-5011-XX, 332A32-5012-XX, or 332A32-5013-XX.

(2) With an MGB P/N 332A32-5004-XX with a main module P/N 332A32-5400-00.

(d) Subject

Joint Aircraft System Component (JASC) Code 6320, Main rotor gear box; and 6300, Main rotor drive system.

(e) Unsafe Condition

This AD was prompted by a report of wear detected on the right-hand side (RH) free wheel shaft. In addition, since AD 2019-19-13 was issued, the FAA has determined that additional parts are affected by the same unsafe condition. The FAA is issuing this AD to prevent wear of the ramps of the right-hand side (RH) free wheel shaft. During an in-flight shutdown of the left-hand side engine, this unsafe condition, if not addressed, could result in reduced ability to transfer one engine inoperative (OEI) power from the RH engine to the main rotor, and subsequent reduced control of the helicopter.

(f) Compliance

Comply with this AD within the compliance times specified, unless already done.

(g) Required Actions

(1) Within 10 hours time-in-service (TIS) after the effective date of this AD, determine the total hours TIS of the RH free wheel shaft since new or last RH free wheel shaft replacement during overhaul.

(i) If the total hours TIS of the RH free wheel shaft is 1,000 or more hours TIS, before further flight, replace the MGB or replace the RH free wheel shaft. Thereafter, before any RH free wheel shaft accumulates 1,000 total hours TIS, replace the MGB or replace the RH free wheel shaft.

(ii) If the total hours TIS of the RH free wheel shaft is less than 1,000 hours TIS, before exceeding 1,000 hours TIS, and thereafter before any RH free wheel shaft accumulates 1,000 total hours TIS, replace the MGB or replace the RH free wheel shaft.

(2) Within 10 hours TIS after the effective date of this AD:

(i) Install one or two self-adhesive placards on the instrument panel in full view of the pilot and co-pilot with 6-millimeter red letters on a white background that state the information contained in figure 1 to paragraph (g)(2)(i) of this AD.

Note 1 to paragraph (g)(2)(i): Figure 4 of Airbus Helicopters Emergency Alert Service Bulletin No. EC225-04A016, Revision 4, dated June 19, 2023, shows an example of this placard.

Figure 1 to Paragraph (g)(2)(i)
The use of ENG1 “TRAINING IDLE” switch is prohibited.
ENG2 “TRAINING IDLE” switch must be systematically used.

(ii) After installing the placard(s) required by paragraph (g)(2)(i) of this AD, before further flight, revise the limitations section of the existing Rotorcraft Flight Manual (RFM) for the helicopter by adding the information in figure 2 to paragraph (g)(2)(ii) of this AD, by inserting a copy of this AD, or by making pen-and-ink changes. The owner/operator (pilot) holding at least a private pilot certificate may revise the existing RFM and must enter compliance with this RFM revision into the helicopter maintenance records in accordance with 14 CFR 43.9 (a) and 14 CFR 91.417(a)(2)(v). The record must be maintained as required by 14 CFR 91.417, 121.380, or 135.439.

Figure 2 to Paragraph (g)(2)(ii)
The use of ENG1 “TRAINING IDLE” switch is prohibited.
ENG2 “TRAINING IDLE” switch must be systematically used.
Accomplishment of OEI training flight is allowed, provided that only ENG2 “TRAINING IDLE” switch is used for that purpose.

(3) For Airbus Helicopters Model EC225LP helicopters with parts identified in paragraph (c)(1) of this AD installed, with “XX” denoting any dash number, as an optional terminating action for the requirements of this AD, install MGB P/N 332A32-5001-XX, 332A32-5002-XX, or 332A32-5003-XX, with a main module (12-roller free wheel), without MOD 07-53016 installed, P/N 332A32-5011-XX, 332A32-5012-XX, or 332A32-5013-XX.

(h) Parts Installation Limitations

As of the effective date of this AD, do not install the parts identified in paragraph (h)(1) or (2) of this AD, with “XX” denoting any dash number, on any helicopter unless the actions required by paragraph (g)(2) of this AD are accomplished.

(1) MGB P/N 332A32-5001-XX, 332A32-5002-XX, or 332A32-5003-XX with a main module, with MOD 07-53016 (16-roller free wheel of free wheel shaft P/N 332A322191.20) installed, P/N 332A32-5011-XX, 332A32-5012-XX, or 332A32-5013-XX.

(2) An MGB P/N 332A32-5004-XX with a main module P/N 332A32-5400-00.

(i) Credit for Previous Actions

This paragraph provides credit for the actions required by paragraphs (g)(1) and (2) of this AD, if those actions were performed before the effective date of this AD in accordance with the material identified in paragraphs (i)(1) through (3) of this AD.

(1) Airbus Helicopters Emergency Alert Service Bulletin (ASB) No. EC225-04A016, Revision 1, dated June 28, 2019.

(2) Airbus Helicopters Emergency ASB EC225-04A016, Revision 2, dated July 23, 2019.

(3) Airbus Helicopters Emergency ASB EC225-04A016, Revision 3, dated August 5, 2019.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD and email to: AMOC@faa.gov.

(2) Before using any approved AMOC, notify your appropriate principal inspector, or lacking a principal inspector, the manager of the local flight standards district office/certificate holding district office.

(k) Additional Information

(1) For more information about this AD, contact Frank Huynh, Aviation Safety Engineer, FAA, 1600 Stewart Avenue, Suite 410, Westbury, NY 11590; phone: (404) 983-2588; email: frank.huynh@faa.gov.

(2) For Airbus Helicopters material that is not incorporated by reference, contact Airbus Helicopters, 2701 North Forum Drive, Grand Prairie, TX 75052; phone: (972) 641-0000 or (800) 232-0323; fax: (972) 641-3775; website: airbus.com/en/products-services/helicopters/hcare-services/airbusworld.

(l) Material Incorporated by Reference

None.

Issued on May 15, 2025.
Steven W. Thompson,
Acting Deputy Director, Compliance & Airworthiness Division, Aircraft Certification Service.

[FR Doc. 2025-09094 Filed 5-21-25; 8:45 am]

BILLING CODE 4910-13-P